DEPARTMENT OF ENERGY

Proposed Agency Information Collection Extension

AGENCY: Office of Energy Efficiency and Renewable Energy, U.S. Department of Energy (DOE).

ACTION: Notice and request for comments.

SUMMARY: The Department of Energy pursuant to the Paperwork Reduction Act of 1995, intends to modify and extend for three years an information collection request with the Office of Management and Budget.

DATES: Comments regarding this proposed information collection must be received on or before March 6, 2023. If you anticipate any difficulty in submitting comments within that period, contact the person listed in the FOR FURTHER INFORMATION CONTACT section as soon as possible.

ADDRESSES: Written comments should include Docket # EERE-2019-VT-0XXX in the subject line of the message and be sent to:

Mr. Mark Smith, Office of Energy Efficiency and Renewable Energy (EE-3V), U.S. Department of Energy, 1000 Independence Avenue SW, Washington, DC 20585-0121, or by fax at (202) 586-1600, or by email at Mark.Smith@ee.doe.gov.

FOR FURTHER INFORMATION CONTACT: Mr. Mark Smith, at telephone: (202) email: Mark.Smith@ee.doe.gov.

SUPPLEMENTARY INFORMATION: The Department of Energy is proposing to modify and extend an information collection pursuant to the Paperwork Reduction Act of 1995. The approved collection is presently being used for Clean Cities programmatic efforts involving three Clean Cities efforts: (1) community readiness for plug-in electric vehicles (PEV); (2) DOE's National Clean Fleets Partnership; and (3) Clean Cities coalition “Ride and Drive Surveys”. DOE is proposing to continue assessing levels of community readiness for PEVs and also to continue assessing progress and acceptance of advanced technology vehicles via “Ride and Drive Surveys”. DOE is proposing to include a new information collection instrument that is an active and effective Clean Cities Coalition self-assessment to ensure its coalitions can remain in good standing for designation purposes. DOE will no longer be collecting information regarding its National Clean Fleets Partnership. The net result is that DOE is not proposing to expand the scope of the existing ICR.

Comments are invited on: (a) whether the modified and extended collection of information is necessary for the proper performance of the functions of DOE, including whether the information shall have practical utility; (b) the accuracy of DOE's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5171; (2) Information Collection Request Title: Clean Cities Vehicle Programs; (3) Type of Review: renewal and modification; (4) Purpose: DOE's Clean Cities initiative has developed three voluntary mechanisms by which communities, certain fleets, and the purchasing public can get a better understanding of their readiness for plug-in electric vehicles (PEVs), and to help DOE's Clean Cities coalitions prepare for the successful adoption of these vehicles and assess their progress in doing so. The voluntary PEV Scorecard is intended to assist its coalitions and stakeholders in assessing the level of readiness of their communities for PEVs. The principal objective of the scorecard is to provide respondents with an objective assessment and estimate of their respective community's readiness for PEV deployment as well as understand the respective community's commitment to deploying these vehicles successfully. DOE intends the scorecard to be completed by a city/county/regional sustainability or energy coordinator. As the intended respondent may not be aware of every aspect of local or regional PEV readiness, coordination among local stakeholders to gather appropriate information may be necessary.

DOE expects a total respondent population of approximately 1,250 respondents. Selecting the multiple-choice answers in completing a scorecard questionnaire is expected to take under 30 minutes, although additional time of no more than 20 hours may be needed to assemble information necessary to be able to answer the questions, leading to a total burden of approximately 25,625 hours. Assembling information to update questionnaire answers in the future on a voluntary basis would be expected to take less time, on the order of 10 hours, as much of any necessary time and effort needed to research information would have been completed previously.

For the Clean Cities Coalition active and effective self-assessment, DOE seeks to gain information that allows DOE Clean Cities leadership to determine whether its coalitions can remain in good standing, and thereby retain designation as a Clean Cities coalition. There are 80 Clean Cities coalitions across the United States, each of which applies to DOE for designation. Achieving full designation requires a comprehensive, strategic, four-year Program Plan that spells out a much broader range of commitments from the coalition and associated stakeholder outlining education plans, technical assistance, and other strategies to overcome market barriers and adopt best practices for organizational excellence that ensure the long-term sustainability of the coalition itself. DOE expects approximately 80 coalitions to complete the self-assessment annually, and DOE expects a total respondent population of 80 corresponding respondents. Completing the self-assessment for each Clean Cities coalition, which occurs annually, is expected to take 45 minutes. The total burden is expected to be 80 coalition respondents × 45 minutes = 60 hours.

For the DOE Clean Cities initiative that involves the ride-and-drive surveys, DOE has developed a three-part voluntary survey to assist its coalitions and stakeholders in assessing the level of interest, understanding, and acceptance of PEVs and alternative fuel vehicles (AFV) by the purchasing public. DOE intends the surveys to be completed by individuals who are participating in one of many ride-and-drive events. There are three phases to the Survey: (1) pre Ride-and-Drive; (2) post Ride-and-Drive; and (3) a few months/sometime later to discern if the respondent followed through with acquisition of a PEV or another AFV. Respondents provide answers in the first two phases through a user-friendly paper survey and on-line survey, and in the third phase they answer questions via an electronic interface, although a paper survey may be used for those lacking access to an electronic device or computer.

The Surveys' effort relies on responses to questions the respondent chooses to answer. The multiple-choice questions address the following topic areas: (1) Demographics; (2) Current vehicle background; (3) How they learned about ride and drive event; (4) Perceptions of PEVs before and after driving; (5) Post-drive vehicle experience; (6) Purchase expectations; (7) Follow-up survey regarding subsequent behaviors; (8) Purchase information; (9) Barriers; and (10) Future intentions. The survey is expected to take 30 minutes, leading to a total burden of approximately 28,250 hours (an increase 2,500 hours above the total burden in hours for the two currently approved collections).

(5) Annual Estimated Number of Respondents: 16,300; (6) Annual Estimated Number of Total Responses: 16,300; (7) Annual Estimated Number of Burden Hours: 28,250 hours (25,625 for PEV Scorecard, 60 hours for Clean Fleets coalition self-assessment, and 2,500 for the Ride and Drive Surveys); and (8) Annual Estimated Reporting and Recordkeeping Cost Burden: There is no cost associated with reporting and recordkeeping.

Statutory Authority: 42 U.S.C. 13233; 42 U.S.C. 13252(a)-(b); 42 U.S.C. 13255.

Signing Authority

This document of the Department of Energy was signed on December 23, 2022, by Sarah Ollila, Acting Director of the Vehicle Technologies Office, Office Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 28, 2022
Treena V. Garrett,
Federal Register Liaison Officer, U.S. Department of Energy.

[FR Doc. 2022-28498 Filed 12-30-22; 8:45 am]

BILLING CODE 6450-01-P